SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses:

(OMB) Office of Management and Budget, Attn: Desk Officer for SSA, New Executive Office Building, Room 10230, 725 17th St., NW, Washington, DC 20503

(SSA) Social Security Administration, DCFAM, Attn: Frederick W. Brickenkamp, 1-A-21 Operations Bldg., 6401 Security Blvd., Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Report of Student Beneficiary About to Attain Age 19—0960-0274. The information collected by the Social Security Administration (SSA) on form SSA-1390 is used to determine a student's eligibility for Social Security benefits for those attaining age 19. The affected public is comprised of student beneficiaries about to attain age 19.

Number of Respondents: 50,000.

Frequency of Response: 1.

Average Burden Per Response: 5 minutes.

Estimated Annual Burden: 4,167 hours.

2. Certificate of Coverage Request Form—0960-0554. The United States (U.S.) has Social Security agreements with 18 countries. These agreements eliminate double Social Security coverage and taxation where a period of work would be subject to coverage and taxes in both countries. The individual agreements contain rules for determining the country under whose laws the period of work will be covered and to whose system taxes will be paid. The agreements further provide that upon the request of the worker or employer, the country under whose system the period of work is covered will issue a certificate of coverage. The certificate serves as proof of exemption from coverage and taxation under the system of the other country. The information collected is needed to determine if a period of work is covered by the U.S. system under an agreement and to issue a certificate of coverage. The respondents are workers and employers wishing to establish an exemption from foreign Social Security taxes.

Number of Respondents: 40,000.

Frequency of Response: 1.

Average Burden Per Response: 30 minutes.

Estimated Annual Burden: 20,000 hours.

3. Medical Report (General)—0960-0052. The information collected on form SSA-3826-F4 is used by SSA to determine the claimant's physical status prior to making a disability determination and to document the disability claims folder with the medical evidence. The respondents are physicians, hospitals, directors and medical records librarians.

Number of Respondents: 750,000.

Frequency of Response: 1.

Average Burden Per Response: 30 minutes.

Estimated Annual Burden: 375,000 hours.

4. Representative Payee Evaluation Report—0960-0069. The information on form SSA-624 is used by SSA to accurately account for the use of Social Security benefits and Supplemental Security Income payments received by representative payees on behalf of an individual. The respondents are individuals and organizations who received form SSA-623 or SSA-6230 and failed to respond, provided unacceptable responses that could not be resolved, or reported a change in custody.

Number of Respondents: 250,000.

Frequency of Response: 1.

Average Burden Per Response: 30 minutes.

Estimated Average Burden: 125,000 hours.

5.Chinese Custom Marriage Statement; Statement Regarding Marriage—0960-0086. The information collected on Forms SSA-1344 and SSA-1345 is used to determine whether the spouse/claimant is (or was) legally married to the numberholder for the purpose of paying Social Security Benefits. The respondents are individuals who were married in a Chinese custom marriage.

| SSA-1344 | SSA-1345
Number of Respondents: | 10 | 10
Frequency of Response: | 1 | 1
Average Burden Per Response: | ¹ 14 | ¹ 14
Estimated Annual Burden: | ² 2.3 | ² 2.3
¹ Minutes.
² Hours.

6. State Agency Ticket Assignment Form—0960-NEW.

The information collected on this form will be used by SSA's contracted Program Manager (PM) to perform the task of assigning beneficiaries' tickets and monitoring the use of tickets under the Ticket to Work and Self-Sufficiency Program. The State Vocational Rehabilitation (VR) agency answers the questions and the beneficiary reviews the data and if in agreement will sign the form acknowledging their Ticket assignment. The respondents are State VR agencies.

Number of Respondents: 21.

Frequency of Response: 4,048 annually per respondent.

Average Burden Per Response: 3 minutes.

Estimated Annual Burden: 4,250 hours.

Please note that the Ticket to Work Program is being implemented in stages. The above represents the initial phase of the program with 13 participating states that includes 21 State VR agencies. As the program continues to be phased in, each initial program year will result in a large number of new tickets for the participating State VRs because existing clients will also be brought into the program.

7. Statement for Determining Continuing Eligibility, Supplemental Security Income Payment—0960-0145—Forms SSA-8202-F6 and SSA-8202-OCR-SM. SSA uses form SSA-8202-F6 to conduct low-and middle-error-profile (LEP-MEP) telephone or face-to-face redetermination (RZ) interviews with Supplemental Security Income (SSI) recipients and representative payees. The information collected during the interview is used to determine whether SSI recipients have met and continue to meet all statutory and regulatory requirements for SSI eligibility and whether they have been and are still receiving the correct payment amount. Form SSA-8202-OCR-SM (Optical Character Recognition-Self Mailer) collects information similar to that collected on Form SSA-8202-F6. However it is used exclusively in LEP RZ cases on a 6-year cycle. The respondents are recipients of SSI benefits or their representative payees.

| Respondents | Frequency response | Average burden per response (minutes) | Estimated annual burden (hours)
SSA-8202-F6 | 920,000 | 1 | 18 | 276,000
SSA-8202-OCR-SM | 800,000 | 1 | 9 | 120,000
Total Burden |  |  |  | 396,000

8. Statement For Determining Continuing Eligibility for Supplemental Security Income Payments—0960-0416. SSA uses form SSA-8203-BK for high-error-profile (HEP) redeterminations. The information is normally completed in field offices by personal contact (face-to-face or telephone interview) using the automated Modernized SSI Claim System (MSSICS). The paper form is used only when a systems limitation prevents the interview from being completed on MSSICS. When the paper form is used, a tear-off sheet (Pages 7 and 8 of the form) is given to recipients at the conclusion of a face-to-face interview or is mailed to recipients at the completion of the telephone interview. The tear-off includes information about how, what, when, where, and why SSI recipients report when there is a change in income, resources, or living arrangements. The respondents are recipients of title XVI SSI benefits.

Number of Respondents: 920,000.

Frequency of Response: 1.

Average Burden Per Response: 18 minutes.

Estimated Annual Burden: 276,000 hours.

9. Summary of Evidence—0960-0430. The information on Form SSA-887 is used by State Disability Determination Services (DDS) to provide claimants with a list of medical/vocational reports pertaining to their disability. The form will aid claimants in reviewing the evidence in their folders and will be used by hearing officers in preparing for and conducting hearings. The respondents are State DDSs that make disability determinations.

Number of Respondents: 49,000.

Frequency of Response: 1.

Average Burden Per Response: 15 minutes.

Estimated Average Burden: 12,250 hours.

10. Notice Regarding Substitution of Party Upon Death of Claimant— Reconsideration of Disability Cessation—0960-0351. The Social Security Administration uses the form SSA-770 to obtain information from substitute parties regarding their intention to pursue the appeals process for an individual who has died. The respondents are such parties.

Number of Respondents: 1,200.

Frequency of Response: 1.

Average Burden Per Response: 10 minutes.

Estimated Annual Burden: 200 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Internet Direct Deposit Application—0960-NEW. SSA uses Direct Deposit/Electronic Funds Transfer (DD/EFT) enrollment information received from beneficiaries to facilitate DD/EFT of their social security benefits with a financial institution. The respondents are Social Security beneficiaries who use the Internet to enroll in DD/EFT.

Number of Respondents: 3,485.

Frequency of Response: 1.

Average Burden Per Response: 10 minutes.

Estimated Average Burden: 581 hours.

2. Request To Have Supplemental Security Income Overpayment Withheld from My Social Security Benefits—0960-0549. Form SSA-730-U2 is used by SSA to confirm that a request has been made by a Social Security beneficiary for SSA to recover his/her SSI overpayment from title II benefits and that the request was made voluntarily by the beneficiary. The respondents are Social Security beneficiaries who received SSI overpayments.

Number of Respondents: 10,000.

Frequency of Response: 1.

Average Burden Per Response: 5 minutes.

Estimated Average Burden: 833 hours.

3. Farm Self-Employment Questionnaire—0960-0061. Section 211(a) of the Social Security Act requires the existence of a trade or business as a prerequisite for determining whether an individual or partnership may have “net earnings from self-employment.” Form SSA-7156 elicits the information necessary to determine the existence of an agricultural trade or business and subsequent covered earnings for Social Security entitlement purposes. The respondents are applicants for Social Security benefits whose entitlement depends on whether the worker has covered earnings from self-employment as a farmer.

Number of Respondents: 47,500.

Frequency of Response: 1.

Average Burden Per Response: 10 minutes.

Estimated Average Burden: 7,917 hours.

Dated: May 4, 2001.
Frederick W. Brickenkamp,
Reports Clearance Officer.

[FR Doc. 01-11753 Filed 5-9-01; 8:45 am]

BILLING CODE 4191-02-U